DEPARTMENT OF EDUCATION

Notice of Proposed Information Collection Requests; Federal Student Aid; Student Assistance General Provisions Annual Fire Safety Report

SUMMARY: This notice solicits comments with respect to the administrative requirements of the annual fire safety report as required by the Higher Education Opportunity Act and the Department of Education's regulations at 34 CFR 668.49.

DATES: Interested persons are invited to submit comments on or before December 3, 2012.

ADDRESSES: Comments submitted in response to this notice should be submitted electronically through the Federal eRulemaking Portal at http://www.regulations.gov by selecting Docket ID number ED-2012-ICCD-0029 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ Room 2E117, Washington, DC 20202-4537. Please specify the complete title of the information collection and OMB Control Number when making your request.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions Annual Fire Safety Report.

OMB Control Number: 1845-0097.

Type of Review: Extension.

Total Estimated Number of Annual Responses: 7,298.

Total Estimated Number of Annual Burden Hours: 7,299.

Abstract: Section 488(g) of the Higher Education Opportunity Act (HEOA) (Pub. L. 110-315) and the Department of Education's regulations at 34 CFR 668.49 require postsecondary institutions to collect statistics on fires in on-campus student housing facilities, including the number and cause of each fire, the number of injuries related to each fire that required treatment at a medical facility, the number of deaths related to each fire, and the value of property damage caused by each fire. Institutions must also publish an annual fire safety report containing the institution's policies regarding fire safety and the fire statistics information. Further the HEOA requires institutions to maintain a fire log that records the date, time, nature, and general location of each fire in on-campus student housing facilities. This request is for extending approval of reporting requirements contained in the regulations related to the administrative requirements of the annual fire safety report. The information collection requirements in the regulations are necessary to prevent fraud and abuse of program and for reporting to Congress.

Dated: September 26, 2012.
Darrin A. King,
Director, Information Collection Clearance Division, Privacy, Information and Records Management Services, Office of Management.

[FR Doc. 2012-24220 Filed 10-2-12; 8:45 am]

BILLING CODE 4000-01-P